DEPARTMENT OF LABOR

Employment and Training Administration

[TA-W-52,198]

Agere Systems, Inc., Allentown, Pennsylvania; Notice of Termination of Investigation

Pursuant to section 221 of the Trade Act of 1974, as amended, an investigation was initiated on July 1, 2003 in response to a worker petition filed by the International Brotherhood of Electrical Workers (IBEW), Local 1522, on behalf of workers at Agere Systems, Inc., Allentown, Pennsylvania.

The petitioner has requested that the petition be withdrawn. Consequently, further investigation would serve no purpose and the investigation is terminated.

Signed in Washington, DC this 5th day of August, 2003.
Linda G. Poole,
Certifying Officer, Division of Trade Adjustment Assistance.

[FR Doc. 03-21019 Filed 8-15-03; 8:45 am]

BILLING CODE 4510-30-P